DEPARTMENT OF COMMERCE

National Oceanic and Atmospheric Administration

50 CFR Part 665

[Docket No. 210730-0152]

RIN 0648-BK29

Pacific Island Fisheries; Electronic Logbooks for Hawaii and American Samoa Pelagic Longline Fisheries

AGENCY: National Marine Fisheries Service (NMFS), National Oceanic and Atmospheric Administration (NOAA), Commerce.

ACTION: Final rule.

SUMMARY: NMFS will require the use of electronic logbooks in the Hawaii pelagic longline fisheries and on Class C and D vessels in the American Samoa pelagic longline fishery. This final rule is intended to reduce human error, improve data accuracy, save time for fishermen and NMFS, and provide more rigorous monitoring and forecasting of catch limits.

DATES: The final rule is effective September 7, 2021.

ADDRESSES: The Western Pacific Fishery Management Council (Council) prepared a regulatory amendment that provides additional information and analyses that support this final rule. Copies are available from the Council, 1164 Bishop St., Suite 1400, Honolulu, HI 96813, tel 808-522-8220, or www.wpcouncil.org.

Written comments regarding the burden-hour estimates or other aspects of the collection-of-information requirements contained in this final rule may be submitted to Michael D. Tosatto, Regional Administrator, NMFS Pacific Islands Region (PIR), 1845 Wasp Blvd., Bldg. 176, Honolulu, HI 96818, and to www.reginfo.gov/public/do/PRAMain.

FOR FURTHER INFORMATION CONTACT: Lynn Rassel, NMFS Pacific Islands Regional Office Sustainable Fisheries, 808-725-5184.

SUPPLEMENTARY INFORMATION: NMFS and the Council manage the Hawaii shallow-set and deep-set longline fisheries and the America Samoa longline fishery under the Fishery Ecosystem Plan for Pelagic Fisheries of the Western Pacific (FEP). The implementing Federal regulations for these fisheries include a suite of conservation and management requirements, including daily catch and effort reporting. The current system of collecting, collating, storing, and entering paper logbook data manually is costly, inefficient, and prone to delays and errors. To correct these inefficiencies, NMFS will require the use of electronic logbooks for vessels with Federal permits for the Hawaii longline fisheries, and Class C and D Federal permits for the American Samoa longline fishery.

Vessel operators will be required to use a NMFS-certified electronic logbook to record catch, effort, location, and other information, and submit it within 24 hours of the completion of a fishing day. In the event of technology malfunction, NMFS will require that logbook data be submitted on paper or electronically within 72 hours of the end of the affected fishing trip.

After this rule's effective date, the requirements will apply to an individual permit holder after NMFS notifies the permit holder of the requirement to submit records electronically and after NMFS assigns an electronic logbook to the vessel. NMFS is responsible for purchasing, providing, and maintaining the tablets, software, and data transmission at no cost to fishery participants. In addition to providing the electronic logbooks, NMFS will provide vessel operators with individual user accounts and train them to use the system properly.

Additional background information on this action is in the proposed rule published in the Federal Register on June 9, 2021 (86 FR 30582); we do not repeat it here.

Comments and Responses

On June 9, 2021, NMFS published a proposed rule for public comment (86 FR 30582). The public comment period ended on July 9, 2021. NMFS received comments from two individuals generally supporting the proposed action. The commenters noted that electronic logbooks are effective in reducing data recording and processing errors, and related agency burden.

Changes From the Proposed Rule

There are no changes in this final rule.

Classification

Pursuant to section 304(b)(3) of the Magnuson-Stevens Act, the NMFS Assistant Administrator has determined that this final rule is consistent with the FEP, other provisions of the Magnuson-Stevens Act, and other applicable law.

The Chief Counsel for Regulation of the Department of Commerce certified to the Chief Counsel for Advocacy of the Small Business Administration during the proposed rule stage that this action would not have a significant economic impact on a substantial number of small entities. The factual basis for the certification was published in the proposed rule and is not repeated here. NMFS received no comments regarding this certification. As a result, a regulatory flexibility analysis was not required and none was prepared.

This final rule has been determined to be not significant for purposes of Executive Order 12866.

This final rule contains a collection-of-information requirement subject to review and approval by OMB under the Paperwork Reduction Act (PRA). This rule revises and seeks to extend by 3 years the existing requirements for the collection of information under OMB Control Number 0648-0214 Pacific Islands Logbook Family of Forms by requiring the use of electronic logbooks in Hawaii pelagic longline fisheries and on Class C and D vessels in the American Samoa pelagic longline fishery. A 60-day Federal Register notice published on May 25, 2021, provided notification of our intent to extend this information collection (86 FR 28082). This revision is not expected to affect the number of respondents or anticipated responses and is expected to reduce the number of burden hours and burden cost to fishermen. The public reporting burden for completing an electronic logbook form for a completed fishing day is estimated to average 15 minutes per response, including the time for reviewing instructions, searching existing data sources, gathering and maintaining the data needed, and completing and reviewing the collection of information.

We invite the general public and other Federal agencies to comment on proposed and continuing information collections, which helps us assess the impact of our information collection requirements and minimize the public's reporting burden. Written comments and recommendations for this information collection should be submitted on the following website: www.reginfo.gov/public/do/PRAMain. Find this particular information collection by using the search function and entering either the title of the collection or the OMB Control Number 0648-0214.

Notwithstanding any other provisions of the law, no person is required to respond or, nor shall any person by subject to a penalty for failure to comply with, a collection of information subject to the requirements of the PRA, unless that collection of information displays a currently valid OMB Control Number.

List of Subjects in 50 CFR 665

Administrative practice and procedure, Hawaii, American Samoa, Fisheries, Fishing, Longline, Pacific Islands, reporting and recordkeeping requirements.

Dated: July 29,2021.
Samuel D. Rauch, III,
Deputy Assistant Administrator for Regulatory Programs, National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. In § 665.14 revise paragraph (b) to read as follows:

§ 665.14 Reporting and recordkeeping.

* * * * *

(b) Fishing record forms—(1) Applicability—(i) Paper records. The operator of a fishing vessel subject to the requirements of § 665.124, § 665.142, § 665.162, § 665.203(a)(2), § 665.224, § 665.242, § 665.262, § 665.404, § 665.424, § 665.442, § 665.462, § 665.603, § 665.624, § 665.642, § 665.662, § 665.801, § 665.905, § 665.935, or § 665.965 must maintain on board the vessel an accurate and complete record of catch, effort, and other data on paper report forms provided by the Regional Administrator, or electronically as specified and approved by the Regional Administrator, except as required in paragraph (b)(1)(ii) of this section or as allowed in paragraph (b)(1)(iv) of this section.

(ii) Electronic records. (A) The operator of a fishing vessel subject to the requirements of § 665.801(b) or a Class C or D vessel subject to the requirements of § 665.801(c) must maintain on board the vessel an accurate and complete record of catch, effort, and other data electronically using a NMFS-certified electronic logbook, and must record and transmit electronically all information specified by the Regional Administrator within 24 hours after the completion of each fishing day.

(B) After the Regional Administrator has notified a permit holder subject to this section of the requirement to submit records electronically, and after the vessel has acquired the necessary NMFS-certified equipment, the vessel and any vessel operator must use the electronic logbook. A vessel operator must obtain an individually assigned user account from NMFS for use with the electronic logbook.

(C) Permit holders and vessel operators shall not be assessed any fee or other charges to obtain and use an electronic logbook that is owned and provided by NMFS. If a permit holder or vessel operator subject to this section does not use a NMFS-owned electronic logbook, the permit holder and operator must provide and maintain an alternative NMFS-certified electronic logbook.

(D) If a vessel operator is unable to maintain or transmit electronic records because NMFS has not provided an electronic logbook, or if NMFS or a vessel operator identifies that the electronic logbook has experienced equipment (hardware or software) or transmission failure, the operator must maintain on board the vessel an accurate and complete record of catch, effort, and other data electronically or on paper report forms provided by the Regional Administrator.

(iii) Recording. The vessel operator must record on paper or electronically all information specified by the Regional Administrator within 24 hours after the completion of each fishing day. The information recorded must be signed and dated, or otherwise authenticated, in the manner determined by the Regional Administrator, and be submitted or transmitted via an approved method as specified by the Regional Administrator, and as required by this section.

(iv) State reporting. In lieu of the requirements in paragraph (b)(1)(i) of this section, the operator of a fishing vessel registered for use under a Western Pacific squid jig permit pursuant to the requirements of § 665.801(g) may participate in a state reporting system. If participating in a state reporting system, all required information must be recorded and submitted in the exact manner required by applicable state law or regulation.

(2) Timeliness of submission. (i) If fishing was authorized under a permit pursuant to § 665.142, § 665.242, § 665.442, § 665.404, § 665.162, § 665.262, § 665.462, § 665.662, or § 665.801, and if the logbook information was not submitted to NMFS electronically within 24 hours of the end of each fishing day while the vessel was at sea, the vessel operator must submit the original logbook information for each day of the fishing trip to the Regional Administrator within 72 hours of the end of each fishing trip, except as allowed in paragraph (b)(2)(iii) of this section.

(ii) [Reserved]

(iii) If fishing was authorized under a PRIA bottomfish permit pursuant to § 665.603(a), PRIA pelagic troll and handline permit pursuant to § 665.801(f), crustacean fishing permit for the PRIA (Permit Area 4) pursuant to § 665.642(a), or a precious coral fishing permit for Permit Area X-P-PI pursuant to § 665.662, the original logbook form for each day of fishing within EEZ waters around the PRIA must be submitted to the Regional Administrator within 30 days of the end of each fishing trip.

(iv) If fishing was authorized under a permit pursuant to § 665.124, § 665.224, § 665.424, § 665.624, § 665.905, § 665.935, or § 665.965, the original logbook information for each day of fishing must be submitted to the Regional Administrator within 30 days of the end of each fishing trip.

* * * * *

[FR Doc. 2021-16650 Filed 8-4-21; 8:45 am]

BILLING CODE 3510-22-P